DEPARTMENT OF AGRICULTURE

Sunshine Act Meeting

AGENCY: Rural Telephone Bank, USDA.

ACTION: Staff briefing for the Board of Directors.

TIME AND DATE: 2 p.m., Thursday, May 10, 2001.

PLACE: Conference Room 5030, South Building, Department of Agriculture, 1400 Independence Avenue, SW., Washington, DC.

STATUS: Open.

MATTERS TO BE DISCUSSED: 1. Current telecommunications industry issues.

2. Contract for business advisor to the Privatization Committee.

3. Transferability of Class C stock to a stockholder's subsidiary company.

4. Office of the Inspector General's audit report on FY 2000 financial statements.

5. FY 2000 annual report.

6. Administrative issues.

ACTION: Board of Directors meeting.

TIME AND DATE: 9 a.m., Friday, May 11, 2001.

PLACE: Conference Room 107-A, Jamie L. Whitten Building, Department of Agriculture, 12th and Jefferson Drive, SW., Washington, DC.

STATUS: Open.

MATTERS TO BE CONSIDERED: The following matters have been placed on the agenda for the Board of Directors meeting:

1. Call to order.

2. Action on Minutes of the February 6, 2001, board meeting.

3. Report on loans approved in the second quarter of FY 2001.

4. Report on financial activity for the second quarter of FY 2001.

5. Privatization Committee report.

6. Clarification on stock policy regarding the transferability of Class C stock to a stockholder's subsidiary company.

7. Action on the Bank's annual report for FY 2000.

8. Adjournment.

CONTACT PERSON FOR MORE INFORMATION: Roberta D. Purcell, Assistant Governor, Rural Telephone Bank, (202) 720-9554.

Dated: April 26, 2001.
Blaine D. Stockton,
Acting Governor, Rural Telephone Bank.

[FR Doc. 01-10958 Filed 4-27-01; 12:29 pm]

BILLING CODE 3410-15-P